DELAWARE RIVER BASIN COMMISSION

Notice of Proposed Methodology for the Delaware River and Bay Integrated List Water Quality Assessment

AGENCY: Delaware River Basin Commission.

ACTION: Notice.

SUMMARY: Notice is hereby given that the methodology proposed to be used in the 2012 Delaware River and Bay Integrated List Water Quality Assessment is available for review and comment.

DATES: Comments must be received in writing by close of business on August 31, 2011.

ADDRESSES: Comments will be accepted via e-mail to john.yagecic@drbc.state.nj.us; via fax to 609-883-9522; by U.S. Mail to DRBC, Attn: Water Quality Assessment 2012, P.O. Box 7360, West Trenton, NJ 08628-0360; via private carrier to DRBC, Attn: Integrated Assessment 2012, 25 State Police Drive, West Trenton, NJ 08628-0360; or by hand. All submissions should have the phrase “Water Quality Assessment 2012” in the subject line and should include the name, address (street address optional) and affiliation, if any, of the commenter.

FOR FURTHER INFORMATION CONTACT: Mr. John Yagecic, Supervisor, Standards and Assessment Section, DRBC Modeling, Monitoring and Assessment Branch, via e-mail to john.yagecic@drbc.state.nj.us or by telephone to 609-883-9500, ext. 271.

SUPPLEMENTARY INFORMATION: The Delaware River Basin Commission (“DRBC” or “Commission”) is an interstate and federal compact agency that was created in 1961 by concurrent legislation of the States of Delaware, New Jersey, and New York, the Commonwealth of Pennsylvania and the United States Government for purpose of jointly managing the water resources of the Delaware River Basin.

DRBC currently is compiling data for the 2012 Delaware River and Bay Water Quality Assessment Report required by the federal Clean Water Act (“CWA”). The 2012 Assessment will present the extent to which waters of the Delaware River and Bay are attaining designated uses in accordance with Section 305(b) of the CWA and the Commission's Water Quality Regulations (18 CFR part 410) and will identify impaired waters, which consist of waters that exceed surface water quality standards.

The assessment methodology to be used in the 2012 Assessment is available for review at the following url: http://www.state.nj.gov/drbc/Methodology-WQAssess-draft_July2011.pdf.

Dated: August 8, 2011.
Pamela M. Bush, Esquire,
Commission Secretary.

[FR Doc. 2011-20512 Filed 8-11-11; 8:45 am]

BILLING CODE 6360-01-P